FEDERAL COMMUNICATIONS COMMISSION

47 CFR Parts 1, 2, 4, 6, 7, 9, 11, 13, 15, 17, 18, 20, 22, 24, 25, 27, 52, 53, 54, 63, 64, 68, 73, 74, 76, 78, 79, 90, 95, 97 and 101

[EB Docket No. 06-119; DA 06-1524]

Recommendations of the Independent Panel Reviewing the Impact of Hurricane Katrina on Communications Networks

AGENCY: Federal Communications Commission.

ACTION: Proposed rule; comments requested.

SUMMARY: In this document, the Federal Communications Commission (Commission) reminds parties about the comment cycle applicable to the Notice of Proposed Rulemaking (NPRM) seeking comment on the recommendations of the Independent Panel Reviewing the Impact of Hurricane Katrina on Communications Networks (Independent Panel). In addition, the Commission requests that, in addressing the issues raised in the NPRM, parties address the applicability of the Panel's recommendations to all types of natural disasters (e.g., earthquakes, tornados, hurricanes, forest fires) as well as other types of incidents (e.g., terrorist attacks, flu pandemic, industrial accidents, etc.). Parties should also discuss whether the Panel's recommendations are broad enough to take into account the diverse topography of our Nation, the susceptibility of a region to a particular type of disaster, and the multitude of communications capabilities a region may possess.

DATES: Comments are due on or before August 7, 2006 and reply comments are due on or before August 21, 2006. Written comments on the Paperwork Reduction Act proposed information collection requirements set forth in the NPRM [71 FR 38564, 38565, July 7, 2006] must be submitted by the public, Office of Management and Budget (OMB), and other interested parties on or before September 5, 2006.

ADDRESSES: Send comments and reply comments to the Office of the Secretary, Federal Communications Commission, 445 12th Street, SW., Room TW-A325, Washington, DC 20554. You may submit comments, identified by EB Docket No. 06-119, by any of the following methods:

• Federal eRulemaking Portal: http://www.regulations.gov Follow the instructions for submitting comments.

• Federal Communications Commission's Web site: http://www.fcc.gov/cgb/ecfs/. Following the instructions for submitting comments.

• People with Disabilities: Contact the FCC to request reasonable accommodations (accessible format documents, sign language interpreters, CART, etc.) by e-mail; FCC504@fcc.gov or phone: 202-418-0530 or TTY: 202-418-0432.

In addition to filing with the Secretary, a copy of any comments on the Paperwork Reduction Act information collection requirements contained in the NPRM [71 FR at 38565, July 7, 2006] should be submitted to Judith B. Herman, Federal Communications Commission, Room 1-B441, 445 12th Street, SW., Washington, DC 20554, or via the Internet to PRA@fcc.gov, and to Kristy L. LaLonde, OMB Desk Officer, Room 10234, NEOB, 725 17th Street, NW., Washington, DC 20503, via the Internet to Kristy_L._LaLonde@omb.eop.gov or fax at 202-395-5167.

FOR FURTHER INFORMATION CONTACT: Lisa M. Fowlkes, Assistant Bureau Chief, Enforcement Bureau, at (202) 418-7452. For additional information concerning the Paperwork Reduction Act information collection requirements contained in the NPRM [71 FR at 38565, July 7, 2006], contact Judith B. Herman at (202) 418-0214 or via the Internet at PRA@fcc.gov.

SUPPLEMENTARY INFORMATION: This is a summary of the Commission's Public Notice in EB Docket No. 06-119, DA 06-1524 released July 26, 2006. The complete text of this document, as well as a complete text of the NPRM is available for inspection and copying during normal business hours in the FCC Reference Information Center, Portals II, 445 12th Street, SW., Room CY-A257, Washington, DC 20554. This document may also be purchased from the Commission's duplicating contractor Best Copy and Printing, Inc., Portals II, 445 12th Street, SW., Room CY-B402, Washington, DC 20554, telephone (800) 378-3160 or (202) 488-5300, facsimile (202) 488-5563, or via e-mail at fcc@bciweb.com. It is also available on the Commission's Web site at http://www.fcc.gov. The Initial Regulatory Flexibility Analysis as well as proposed information collection requirements were set forth in the NPRM [71 FR at 38565, 38568-38573, July 7, 2006].

Synopsis of the Public Notice

In January 2006, Chairman Kevin J. Martin established the Independent Panel pursuant to the Federal Advisory Committee Act, Public Law 92-463, as amended. The mission of the Independent Panel was to review the impact of Hurricane Katrina on the telecommunications and media infrastructure in the areas affected by Hurricane Katrina and make recommendations to the Commission. On June 12, 2006, the Independent Panel submitted its Report to the Commission. On June 19, 2006, the Commission issued a Notice of Proposed Rulemaking initiating a comprehensive rulemaking to address and implement the recommendations presented by the Independent Panel. [71 FR 38564, July 7, 2006]

In the NPRM, the Commission sought comment on what actions it can take to address the Independent Panel's recommendations which were categorized into four areas: (1) Pre-positioning the communications industry and the government for disasters in order to achieve greater network reliability and resiliency; (2) improving recovery coordination to address existing shortcomings and to maximize the use of existing resources; (3) improving the operability or interoperability of public safety and 911 communications in times of crisis; and (4) improving communication of emergency information to the public. As the Commission stated in the Notice, its goal in this proceeding is to take the lessons learned from this disaster and build upon them to promote more effective, efficient response and recovery efforts, as well as a heightened readiness and preparedness in the future. The Commission also stated that it seeks comment whether it should rely on voluntary consensus recommendations, as advocated by the Independent Panel, or whether it should rely on other measures for enhancing readiness and promoting more effective response efforts.

In light of the Commission's comprehensive examination into these areas, we request that parties filing comments in this proceeding address the applicability of the Independent Panel's recommendations to all types of disasters. Specifically, parties should address not only the applicability of the Independent Panel's recommendations to areas of the country subject to hurricanes, but to areas prone to other types of disasters. Would other types of disasters warrant modifications or other changes to the Independent Panel's recommendations? For example, would the characteristics of earthquakes, floods, forest fires, or other natural disasters require modifications to the Independent Panel's recommendations? In addition, we request that parties filing comments discuss the impact of the country's diverse topography on the Independent Panel's recommendations. Would a region's topography warrant modifications or other changes to the Independent Panel's recommendations? If additional steps are warranted to account for unique topography, what actions can the Commission take to improve network resiliency and reliability, recovery coordination, first responder communications and emergency communications to the public in those areas? Finally, different regions may have different communications capabilities. For example, a metropolitan urban area may have greater and diverse communications capabilities than a rural, mountainous region. Would the availability of different communications capabilities in a region affect the Independent Panel's recommendations? If so, what actions should be taken in this regard?

Finally, comments in this proceeding are due on or before August 7, 2006 and reply comments are due on or before August 21, 2006.

Federal Communications Commission
Kris Anne Monteith,
Chief, Enforcement Bureau.

[FR Doc. E6-12447 Filed 7-31-06; 8:45 am]

BILLING CODE 6712-01-P